DEPARTMENT OF TRANSPORTATION

Federal Aviation Administration

14 CFR Part 39

[Docket No. FAA-2025-0626; Project Identifier MCAI-2024-00713-T; Amendment 39-23102; AD 2025-16-04]

RIN 2120-AA64

Airworthiness Directives; Airbus SAS Airplanes

AGENCY: Federal Aviation Administration (FAA), DOT.

ACTION: Final rule.

SUMMARY: The FAA is adopting a new airworthiness directive (AD) for all Airbus SAS Model A318, A319, A320, and A321 series airplanes. This AD was prompted by a heavy maintenance check that found elongation on the upper section of the vertical member's assembly at the frame (FR) 24A cargo panel sub-structure. This AD requires a check for certain repairs, and as applicable, repetitive detailed visual inspections of the vertical member's upper part and the upper fittings at FR 24A in the forward cargo compartment and corrective actions. The FAA is issuing this AD to address the unsafe condition on these products.

DATES: This AD is effective September 18, 2025.

The Director of the Federal Register approved the incorporation by reference of certain publications listed in this AD as of September 18, 2025.

ADDRESSES:

AD Docket: You may examine the AD docket at regulations.gov under Docket No. FAA-2025-0626; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For Airbus material identified in this AD, contact Airbus SAS, Airworthiness Office—EIAS, Rond-Point Emile Dewoitine No: 2, 31700 Blagnac Cedex, France; telephone +33 5 61 93 36 96; fax +33 5 61 93 44 51; email account.airworth-eas@airbus.com; website airbus.com.

• You may view this material at the FAA, Airworthiness Products Section, Operational Safety Branch, 2200 South 216th St., Des Moines, WA. For information on the availability of this material at the FAA, call 206-231-3195. It is also available at regulations.gov under Docket No. FAA-2025-0626.

FOR FURTHER INFORMATION CONTACT: Dan Rodina, Aviation Safety Engineer, FAA, 2200 South 216th St., Des Moines, WA 98198; telephone 206-231-3225; email dan.rodina@faa.gov.

SUPPLEMENTARY INFORMATION:

Background

The FAA issued a notice of proposed rulemaking (NPRM) to amend 14 CFR part 39 by adding an AD that would apply to all Airbus SAS Model A318-111, -112, -121, and -122 airplanes; Model A319-111, -112, -113, -114, -115, -131, -132, -133, -151N, -153N, -171N, and -173N airplanes; Model A320-211, -212, -214, -216, -231, -232, -233, -251N, -252N, -253N, -271N, -272N, and -273N airplanes; Model A321-111, -112, -131, -211, -212, -213, -231, -232, -251N, -251NX, -252N, -252NX, -253N, -253NX, -253NY, -271N, -271NX, -272N, and -272NX airplanes. The NPRM was published in the Federal Register on April 21, 2025 (90 FR 16655). The NPRM was prompted by AD 2025-0083, dated April 14, 2025, issued by European Union Aviation Safety Agency (EASA), which is the Technical Agent for the Member States of the European Union (EASA AD 2025-0083) (also referred to as the MCAI). The MCAI states that during heavy maintenance checks, elongation was found on the upper section of the vertical member's assembly (Y-765, Y-254, Y254, and Y765) at the FR 24A cargo panel substructure. The affected parts are the cargo bulkhead vertical member upper parts and upper fittings located at the FR 24A behind the 80VU rack.

In the NPRM, the FAA proposed to require a check for certain repairs, and as applicable, repetitive detailed visual inspections of the vertical member's upper part and the upper fittings at FR 24A in the forward cargo compartment and corrective actions. The FAA is issuing this AD to detect and correct damage of the FR 24A vertical members assembly in the forward cargo compartment. The unsafe condition, if not addressed, could lead to affected parts hitting the 80VU rack and subsequent loss of several 80VU computers, with multiple system failures or partial disconnection of systems, which could result in reduced control of the airplane.

You may examine the MCAI in the AD docket at regulations.gov under Docket No. FAA-2025-0626.

Discussion of Final Airworthiness Directive

Comments

The FAA received a comment from The Air Line Pilots Association, International (ALPA), who supported the NPRM without change.

The FAA received additional comments from American Airlines (AA) and Delta Airlines (Delta). The following presents the comments received on the NPRM and the FAA's response to each comment.

Request To Require Compliance With EASA AD 2025-0083

AA and Delta requested the FAA revise paragraph (g) to comply with the requirements of EASA AD 2025-0083; in lieu of the Airbus Service Bulletin A320-25-1CFU, dated September 26, 2024, and Airbus Service Bulletin A320-25-1CFV, dated September 26, 2024. AA and Delta stated that the current reference to a specific service bulletin revision would result in operators needing to request alternative methods of compliance (AMOCs) each time a new service bulletin revision is released.

The FAA does not agree with the request. The FAA concurs that mandating the EASA AD 2025-0083 allows flexibility and that mandating the Airbus service bulletins would result in an AMOC for later revisions of the Airbus service bulletins. However, for this AD, the FAA determined that EASA AD 2025-0083 did not fully describe the corrective actions and therefore it was more appropriate to mandate the Airbus service bulletins. However, insofar as is appropriate, the FAA is committed to mandating EASA ADs as the primary source of information for compliance with corresponding FAA ADs by utilizing the “IBR the MCAI” process.

Additional Changes Made to This AD

The FAA has added Model A321-271NY airplanes to the applicability, as identified in European Union Aviation Safety Agency AD 2025-0083. The FAA added Model A321-271NY airplanes to the applicability because Model A321-271NY airplanes were recently certificated by the FAA and are included on the U.S. type certificate data sheet. There are currently no Model A321-271N airplanes on the U.S. registry. The FAA has also added Model A321-271NY airplanes to paragraphs (g)(2) of this AD.

In addition, the FAA has reviewed Airbus Service Bulletin A320-25-1CFV, Revision 01, dated July 2, 2025, which adds Model A321-271NY airplanes to its effectivity and changes the threshold in compliance table from Entry Into Service (EIS) to date of manufacture. The FAA has revised the “Material Incorporated by Reference Under 1 CFR part 51” paragraph and paragraphs (g)(2), (h)(1), (h)(3) through (5), (i), and (l)(2)(iii) of this AD, to refer to Airbus Service Bulletin A320-25-1CFV, Revision 01, dated July 2, 2025. The FAA notes that for Model A319-151N, -153N, -171N, and -173N airplanes; Model A320-251N, -252N, -253N, -271N, -272N, and -273N airplanes; and Model A321-251N, -251NX, -252N, -252NX, -253N, -253NX, -253NY, -271N, -271NX, -271NY, -272N, and -272NX airplanes, either Airbus Service Bulletin A320-25-1CFV, dated September 26, 2024; or Airbus Service Bulletin A320-25-1CFV, Revision 01, dated July 2, 2025, may be used to accomplish the applicable requirements of this AD.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, and any other changes described previously, this AD is adopted as proposed in the NPRM. None of the changes will increase the economic burden on any operator.

Material Incorporated by Reference Under 1 CFR Part 51

The FAA reviewed Airbus Service Bulletin A320-25-1CFU, dated September 26, 2024; Airbus Service Bulletin A320-25-1CFV, dated September 26, 2024; and Airbus Service Bulletin A320-25-1CFV, Revision 01, dated July 2, 2025; which specify procedures for a maintenance records check for certain existing repairs, and depending on the results of the check, contacting Airbus for instructions, repetitive detailed visual inspections for damage (e.g., cracking and wear, which includes elongation of the hole) of the vertical members upper part (side, elongated hole, and guiding nuts) and repetitive detailed visual inspections for damage (e.g., cracking and wear) of the upper fittings at FR 24A in the forward cargo compartment. Depending on the detailed visual inspection results, the material also specifies corrective actions, including repairing damage, installing new or retained vertical members and new guiding nuts, and replacing damaged upper fittings with new fittings. These documents are distinct since they apply to different airplane configurations.

This material is reasonably available because the interested parties have access to it through their normal course of business or by the means identified in the ADDRESSES section.

Costs of Compliance

The FAA estimates that this AD affects 1,938 airplanes of U.S. registry. The FAA estimates the following costs to comply with this AD:

Estimated Costs for Required Actions
Labor cost | Parts cost | Cost per product | Cost on U.S. operators
1 work-hour × $85 per hour = $85 | $0 | $85 | $164,730

The FAA estimates the following costs to do any necessary on-condition actions that would be required based on the results of any required actions. The FAA has no way of determining the number of aircraft that might need these on-condition actions:

Estimated Costs of On-Condition Actions *
Labor cost | Parts cost | Cost per product
Up to 8 work-hours × $85 per hour = $680 | Up to $614 | $1,294
* Includes damage repair, installation of vertical members and guiding nuts, replacement of upper fittings with new fittings, and repetitive inspections.
The FAA has received no definitive data on which to base the cost estimates for the on-condition instructions specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-16-04 Airbus SAS: Amendment 39-23102; Docket No. FAA-2025-0626; Project Identifier MCAI-2024-00713-T.

(a) Effective Date

This airworthiness directive (AD) is effective September 18, 2025.

(b) Affected ADs

None.

(c) Applicability

This AD applies to all Airbus SAS Model airplanes specified in paragraphs (c)(1) through (4) of this AD, certificated in any category.

(1) Model A318-111, -112, -121, and -122 airplanes.

(2) Model A319-111, -112, -113, -114, -115, -131, -132, -133, -151N, -153N, -171N, and -173N airplanes.

(3) Model A320-211, -212, -214, -216, -231, -232, -233, -251N, -252N, -253N, -271N, -272N, and -273N airplanes.

(4) Model A321-111, -112, -131, -211, -212, -213, -231, -232, -251N, -251NX, -252N, -252NX, -253N, -253NX, -253NY, -271N, -271NX, -271NY, -272N, and -272NX airplanes.

(d) Subject

Air Transport Association (ATA) of America Code 25, Equipment/furnishings.

(e) Unsafe Condition

This AD was prompted by a heavy maintenance check that found elongation on the upper section of the vertical member's assembly at the frame (FR) 24A cargo panel sub-structure. The FAA is issuing this AD to detect and correct damage of the FR 24A vertical members assembly in the forward cargo compartment. The unsafe condition, if not addressed, could lead to affected parts hitting the 80VU rack and subsequent loss of several 80VU computers, with multiple system failures or partial disconnection of systems, which could result in reduced control of the airplane.

(f) Compliance

Comply with this AD within the compliance times specified, unless already done.

(g) Requirements

(1) For Model A318-111, -112, -121, and -122 airplanes; Model A319-111, -112, -113, -114, -115, -131, -132, and -133 airplanes; Model A320-211, -212, -214, -216, -231, -232, -233; and Model A321-111, -112, -131, -211, -212, -213, -231, -and 232 airplanes: Except as specified in paragraph (h) of this AD, at the applicable times specified in paragraph 1.E. Compliance of Airbus Service Bulletin A320-25-1CFU, dated September 26, 2024, do all applicable actions identified as “RC” (required for compliance) in, and in accordance with, the Accomplishment Instructions of Airbus Service Bulletin A320-25-1CFU, dated September 26, 2024.

(2) For Model A319-151N, -153N, -171N, and -173N airplanes; Model A320-251N, -252N, -253N, -271N, -272N, and -273N airplanes; and Model A321-251N, -251NX, -252N, -252NX, -253N, -253NX, -253NY, -271N, -271NX, -271NY, -272N, and -272NX airplanes: Except as specified in paragraph (h) of this AD, at the applicable times specified in paragraph 1.E. Compliance of Airbus Service Bulletin A320-25-1CFV, dated September 26, 2024, or Airbus Service Bulletin A320-25-1CFV, Revision 01, dated July 2, 2025, do all applicable actions identified as “RC” in, and in accordance with, the Accomplishment Instructions of Airbus Service Bulletin A320-25-1CFV, dated September 26, 2024, or Airbus Service Bulletin A320-25-1CFV, Revision 01, dated July 2, 2025.

(h) Exceptions to Service Information

(1) Where paragraph 1.E. Compliance of Airbus Service Bulletin A320-25-1CFU, dated September 26, 2024, Airbus Service Bulletin A320-25-1CFV, dated September 26, 2024, and Airbus Service Bulletin A320-25-1CFV, Revision 01, dated July 2, 2025, refer to “the effective date of the AD,” this AD requires using the effective date of this AD.

(2) Where paragraph 1.E. Compliance of Airbus Service Bulletin A320-25-1CFU, dated September 26, 2024, and Airbus Service Bulletin A320-25-1CFV, dated September 26, 2024, refer to a compliance time “since aircraft entry into service (EIS)” or “since aircraft EIS”, this AD requires replacing that text with “since airplane date of manufacture”.

(3) Where the Conditions column of Table 2 in paragraph 1.E. Compliance of Airbus Service Bulletin A320-25-1CFU, dated September 26, 2024; Airbus Service Bulletin A320-25-1CFV, dated September 26, 2024; and Airbus Service Bulletin A320-25-1CFV, Revision 01, dated July 2, 2025; refers to “All aircraft”, this AD requires replacing that text with “All aircraft on which the vertical member has not been repaired as per RDAF and it has not been repaired in accordance with SRM 53-21-29-300-002”.

(4) Where the Conditions column of Table 3 in paragraph 1.E. Compliance of Airbus Service Bulletin A320-25-1CFU, dated September 26, 2024; Airbus Service Bulletin A320-25-1CFV, dated September 26, 2024; and Airbus Service Bulletin A320-25-1CFV, Revision 01, dated July 2, 2025; refers to “All aircraft”, this AD requires replacing that text with “All aircraft on which the upper fitting has not been repaired in accordance with SRM 53-21-29-283-003”.

(5) Where paragraph 1.E. Compliance and the Accomplishment Instructions of Airbus Service Bulletin A320-25-1CFU, dated September 26, 2024; Airbus Service Bulletin A320-25-1CFV, dated September 26, 2024; and Airbus Service Bulletin A320-25-1CFV, Revision 01, dated July 2, 2025; specify “should be replaced”, this AD requires replacing that text with “must be replaced”.

(i) No Reporting Requirement

Although Airbus Service Bulletin A320-25-1CFU, dated September 26, 2024; Airbus Service Bulletin A320-25-1CFV, dated September 26, 2024; and Airbus Service Bulletin A320-25-1CFV, Revision 01, dated July 2, 2025; specify to submit certain information to the manufacturer, this AD does not include that requirement.

(j) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the Manager, AIR-520, Continued Operational Safety Branch, send it to the attention of the person identified in paragraph (k) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or the European Union Aviation Safety Agency (EASA); or Airbus SAS's EASA Design Organization Approval (DOA). If approved by the DOA, the approval must include the DOA-authorized signature.

(3) Required for Compliance (RC): Except as required by paragraph (j)(2) of this AD, if any material contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Additional Information

For more information about this AD, contact Dan Rodina, Aviation Safety Engineer, FAA, 2200 South 216th St., Des Moines, WA 98198; telephone 206-231-3225; email dan.rodina@faa.gov.

(l) Material Incorporated by Reference

(1) The Director of the Federal Register approved the incorporation by reference of the material listed in this paragraph under 5 U.S.C. 552(a) and 1 CFR part 51.

(2) You must use this material as applicable to do the actions required by this AD, unless this AD specifies otherwise.

(i) Airbus Service Bulletin A320-25-1CFU, dated September 26, 2024.

(ii) Airbus Service Bulletin A320-25-1CFV, dated September 26, 2024.

(iii) Airbus Service Bulletin A320-25-1CFV, Revision 01, dated July 2, 2025.

(3) For Airbus material identified in this AD, contact Airbus SAS, Airworthiness Office—EIAS, Rond-Point Emile Dewoitine No: 2, 31700 Blagnac Cedex, France; telephone +33 5 61 93 36 96; fax +33 5 61 93 44 51; email account.airworth-eas@airbus.com; website airbus.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations, or email fr.inspection@nara.gov.

Issued on July 31, 2025.
Peter A. White,
Deputy Director, Integrated Certificate Management Division, Aircraft Certification Service.

[FR Doc. 2025-15480 Filed 8-13-25; 8:45 am]

BILLING CODE 4910-13-P